NUCLEAR REGULATORY COMMISSION

[NRC-2016-0054]

License Amendment Requests for Changes to Emergency Response Organization Staffing and Augmentation

AGENCY: Nuclear Regulatory Commission.

ACTION: Regulatory issue summary; issuance.

SUMMARY: The U.S. Nuclear Regulatory Commission (NRC) is issuing Regulatory Issue Summary (RIS) 2016-10, “License Amendment Requests for Changes to Emergency Response Organizations Staffing and Augmentation.” This RIS clarifies the application of guidance documents that support license amendment requests that would change augmenting emergency response arrival times for holders of nuclear power reactor operating licenses, construction permits, combined licenses, and early site permits.

DATES: The RIS is available as of August 12, 2016.

ADDRESSES: Please refer to Docket ID NRC-2016-0054 when contacting the NRC about the availability of information regarding this document. You may obtain publicly-available information related to this document using any of the following methods:

• Federal Rulemaking Web site: Go to http://www.regulations.gov and search for Docket ID NRC-2016-0054. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The RIS, “License Amendment Requests for Changes to Emergency Response Organization Staffing and Augmentation,” is available in ADAMS under Accession No. ML16124A002.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2016” and then select “RIS-16-10”).

FOR FURTHER INFORMATION CONTACT: Brian K. Harris, Office of Nuclear Reactor Regulation, U.S. Nuclear Regulatory Commission, Washington, DC 20555-0001; telephone: 301-415-2277, email: Brian.Harris2@nrc.gov.

SUPPLEMENTARY INFORMATION: The NRC published a notice of opportunity for public comment on a draft version of this RIS in the Federal Register on March 15, 2016 (81 FR 13849), and received comments from three commenters. The NRC staff considered all comments, which resulted in minor RIS modifications. The evaluation of these comments and the resulting changes to the RIS are discussed in a publicly-available memorandum, which is in ADAMS under Accession No. ML16124A001.

Dated at Rockville, Maryland, this 8th day of August 2016.
For the Nuclear Regulatory Commission.
Alex Garmoe,
Acting Chief, Generic Communications Branch, Division of Policy and Rulemaking, Office of Nuclear Reactor Regulation.

[FR Doc. 2016-19212 Filed 8-11-16; 8:45 am]

BILLING CODE 7590-01-P